JUDICIAL CONFERENCE OF THE UNITED STATES

Hearing of the Judicial Conference Committee on Civil Rules

AGENCY: Judicial Conference of the United States, Advisory Committee on Civil Rules.

ACTION: Notice of cancellation of open hearing.

SUMMARY: The following public hearing on proposed amendments to the Federal Rules of Civil Procedure has been canceled: Civil Rules Hearing, November 7, 2011, in Washington, DC.

FOR FURTHER INFORMATION CONTACT: Benjamin J. Robinson, Deputy Rules Officer and Counsel, Rules Committee Support Office, Administrative Office of the United States Courts, Washington, DC 20544, telephone (202) 502-1820.

Dated: October 18, 2011.
Benjamin J. Robinson,
Deputy Rules Officer and Counsel.

[FR Doc. 2011-27419 Filed 10-21-11; 8:45 am]

BILLING CODE 2210-55-P